DEPARTMENT OF TRANSPORTATION

Federal Aviation Administration

14 CFR Part 39

[Docket No. FAA-2011-1413; Directorate Identifier 2011-NM-062-AD]

RIN 2120-AA64

Airworthiness Directives; Cessna Aircraft Company Airplanes

AGENCY: Federal Aviation Administration (FAA), DOT.

ACTION: Notice of proposed rulemaking (NPRM).

SUMMARY: We propose to adopt a new airworthiness directive (AD) for certain Cessna Aircraft Company Model 560XL airplanes. This proposed AD was prompted by reports of wheel inserts becoming loose and damaging brake assemblies on Model 560XL airplanes. This proposed AD would require an inspection of the torque lug and surrounding components (wheel base, side rim, lock ring) for damage (such as corrosion, cracks, dents, bent areas, damaged or missing paint or primer, or wear on the metal), and of the bearing cup for corrosion, turned cup, or clearance that exceeds limits, and repair as applicable; measuring the torque lugs for width and replacing screws and inserts with new, improved screws and inserts; and re-identifying the wheel assemblies. We are proposing this AD to correct the unsafe condition on these products.

DATES: We must receive comments on this proposed AD by March 5, 2012.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: Deliver to Mail address above between 9 a.m. and 5 p.m., Monday through Friday, except Federal holidays.

For Cessna service information identified in this proposed AD, contact Cessna Aircraft Co., P.O. Box 7706, Wichita, Kansas 67277-7706; telephone (316) 517-6215; fax (316) 517-5802; email citationpubs@cessna.textron.com; Internet https://www.cessnasupport.com/newlogin.html. For Goodrich service information identified in this proposed AD, contact Goodrich Corporation, Aircraft Wheels & Brakes, P.O. Box 340, Troy, Ohio 45373-3872; telephone (937) 440-2130; fax (937) 440-2055; email WBPubs-Admin@goodrich.com; Internet http://www.goodrich.com/TechPubs. You may review copies of the referenced service information at the FAA, Transport Airplane Directorate, 1601 Lind Avenue SW., Renton, Washington. For information on the availability of this material at the FAA, call (425) 227-1221.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (phone: (800) 647-5527) is in the ADDRESSES section. Comments will be available in the AD docket shortly after receipt.

FOR FURTHER INFORMATION CONTACT: David Fairback, Aerospace Engineer, Mechanical Systems and Propulsion Branch, ACE-116W, FAA, Wichita Aircraft Certification Office, 1801 Airport Road, Room 100, Mid-Continent Airport, Wichita, KS 67209; phone: (316) 946-4154; fax: (316) 946-4107; email: david.fairback@faa.gov.

SUPPLEMENTARY INFORMATION:

Comments Invited

We invite you to send any written relevant data, views, or arguments about this proposal. Send your comments to an address listed under the ADDRESSES section. Include “Docket No. FAA-2011-1413; Directorate Identifier 2011-NM-062-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

We have received reports of wheel inserts becoming loose and damaging brake assemblies on Model 560XL airplanes. In two cases, a loose wheel insert damaged the brake housing at a location that affects both the antiskid brake hydraulic system and the emergency brake system. In those two cases, both systems failed to stop the airplane on the runway. This condition, if not corrected, could result in brake failure, and consequently an airplane not being able to stop on the runway.

Relevant Service Information

We reviewed Cessna Service Bulletin SB560XL-32-41, Revision 1, dated May 5, 2011, including Service Bulletin Supplemental Data SB560XL-32-41, dated February 25, 2011. That service bulletin describes procedures for doing a general visual inspection of the torque lug and surrounding components (wheel base, side rim, lock ring) for damage (such as corrosion, cracks, dents, bent areas, damaged or missing paint or primer, or wear on the metal), and of the bearing cup for corrosion, turned cup, or clearance that exceeds limits, and repair if necessary; measuring the torque lugs for width and replacing screws and inserts with new, improved screws and inserts; and re-identifying the wheel assemblies.

FAA's Determination

We are proposing this AD because we evaluated all the relevant information and determined the unsafe condition described previously is likely to exist or develop in other products of the same type design.

Proposed AD Requirements

This proposed AD would require accomplishing the actions specified in the service information described previously, except as discussed under “Difference Between the Proposed AD and the Service Information.”

Difference Between the Proposed AD and the Service Information

Operators should note that, although the Accomplishment Instructions of Cessna Service Bulletin SB560XL-32-41, Revision 1, dated May 5, 2011, describe procedures for submitting a comment sheet related to service bulletin quality and a sheet recording compliance with the service bulletin, this proposed AD would not require those actions.

Costs of Compliance

We estimate that this proposed AD affects 473 airplanes of U.S. registry.

We estimate the following costs to comply with this proposed AD:

Estimated Costs
Action | Labor cost | Parts cost | Cost per product | Cost on U.S. operators
Inspection, and measurement of the torque lugs, replacement of screws and inserts, and re-marking | Up to 11 work-hours × $85 per hour = $935 | Up to $6,462 | Up to $7,397 | Up to $3,498,781

We estimate the following costs to do any necessary repairs or replacements as applicable that would be required based on the results of the proposed inspection. We have no way of determining the number of aircraft that might need these repairs or replacements:

On-Condition Costs
Action | Labor cost | Parts cost | Cost per product
Repair or replacement as applicable | Between 1 and 9 work-hour[s] × $85 per hour = Between $85 and $765 per wheel assembly | Between $0 and $24,000 per wheel assembly | Between $85 and $24,765 per wheel assembly

According to the manufacturer, all of the costs of this proposed AD may be covered under warranty, thereby reducing the cost impact on affected individuals. We do not control warranty coverage for affected individuals. As a result, we have included all costs in our cost estimate.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Cessna Aircraft Company: Docket No. FAA-2011-1413; Directorate Identifier 2011-NM-062-AD.

(a) Comments Due Date

We must receive comments by March 5, 2012.

(b) Affected ADs

None.

(c) Applicability

This AD applies to Cessna Aircraft Company Model 560XL airplanes; certificated in any category; having serial numbers 5002 through 5372 inclusive, 5501 through 5830 inclusive, 6001 through 6055 inclusive, 6057 through 6066 inclusive, 6069 through 6071 inclusive, and 6073 through 6077 inclusive.

(d) Subject

Joint Aircraft System Component (JASC)/Air Transport Association (ATA) of America Code 32, Landing Gear.

(e) Unsafe Condition

This AD was prompted by reports of wheel inserts becoming loose and damaging brake assemblies on Model 560XL airplanes. We are issuing this AD to prevent brake failure, which could result in an airplane not being able to stop on the runway.

(f) Compliance

Comply with this AD within the compliance times specified, unless already done.

(g) Inspection, Corrective Action, and Replacement

Within 1 year after the effective date of this AD, or during the next tire change accomplished after the effective date of this AD, whichever occurs first: Do the actions specified in paragraphs (g)(1), (g)(2), and (g)(3) of this AD on both main wheels, in accordance with the Accomplishment Instructions of Cessna Service Bulletin SB560XL-32-41, Revision 1, dated May 5, 2011. Do all applicable repairs and replacements before further flight.

(1) Do a general visual inspection of the torque lug and surrounding components (wheel base, side rim, lock ring) for damage (such as corrosion, cracks, dents, bent areas, damaged or missing paint or primer, or wear on the metal), and of the bearing cup for corrosion, turned cup, or clearance that exceeds limits, and all applicable repairs.

(2) Measure the torque lugs for width and replace screws and inserts with new, improved screws and inserts.

(3) Re-identify the wheel assembly.

Note 1: Cessna Service Bulletin SB560XL-32-41, Revision 1, dated May 5, 2011, refers to Goodrich Service Bulletin 3-1571-32-7, dated February 25, 2011, as an additional source of guidance on inspecting and repairing the torque lugs, surrounding components, and bearing cup, and re-identifying the wheel assemblies.

Note 2: For the purposes of this AD, a general visual inspection is: “A visual examination of an interior or exterior area, installation, or assembly to detect obvious damage, failure, or irregularity. This level of inspection is made from within touching distance unless otherwise specified. A mirror may be necessary to ensure visual access to all surfaces in the inspection area. This level of inspection is made under normally available lighting conditions such as daylight, hangar lighting, flashlight, or droplight and may require removal or opening of access panels or doors. Stands, ladders, or platforms may be required to gain proximity to the area being checked.”

(h) Parts Installation

As of the effective date of this AD, no person may install, on any airplane, a wheel assembly having P/N 3-1571-3 or 3-1571-4, unless it has been inspected, measured, and re-identified, in accordance with paragraph (g) of this AD, and all applicable repairs or replacements have been done.

(i) Credit for Actions Accomplished in Accordance With Previous Service Information

Actions done before the effective date of this AD in accordance with Cessna Service Bulletin SB560XL-32-41, dated February 25, 2011, are acceptable for compliance with the corresponding requirements of this AD.

(j) No Reporting Required

Although Cessna Service Bulletin SB560XL-32-41, Revision 1, dated May 5, 2011, specifies to submit certain information to the manufacturer, this AD does not include that requirement.

(k) Alternative Methods of Compliance (AMOCs)

(1) The Manager, Wichita Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD.

(2) Before using any approved AMOC, notify your appropriate principal inspector, or lacking a principal inspector, the manager of the local flight standards district office/certificate holding district office.

(l) Related Information

(1) For more information about this AD, contact David Fairback, Aerospace Engineer, Mechanical Systems and Propulsion Branch, ACE-116W, FAA, Wichita Aircraft Certification Office, 1801 Airport Road, Room 100, Mid-Continent Airport, Wichita, KS 67209; phone: (316) 946-4154; fax: (316) 946-4107; email: david.fairback@faa.gov.

(2) For Cessna service information identified in this AD, contact Cessna Aircraft Co., P.O. Box 7706, Wichita, Kansas 67277; telephone (316) 517-6215; fax (316) 517-5802; email citationpubs@cessna.textron.com; Internet https://www.cessnasupport.com/newlogin.html. For Goodrich service information identified in this proposed AD, contact Goodrich Corporation, Aircraft Wheels & Brakes, P.O. Box 340, Troy, Ohio 45373-3872; telephone (937) 440-2130; fax (937) 440-2055; email WBPubs-Admin@goodrich.com; Internet http://www.goodrich.com/TechPubs. You may review copies of the referenced service information at the FAA, Transport Airplane Directorate, 1601 Lind Ave. SW., Renton, WA. For information on the availability of this material at the FAA, call (425) 227-1221.

Issued in Renton, Washington, on January 6, 2012.
Ali Bahrami,
Manager, Transport Airplane Directorate, Aircraft Certification Service.

[FR Doc. 2012-855 Filed 1-18-12; 8:45 am]

BILLING CODE 4910-13-P